GULF COAST ECOSYSTEM RESTORATION COUNCIL

2 CFR Part 5900

[Docket Number: 112102020-1111-02]

Uniform Administrative Requirements, Cost Principles, and Audit Requirements for Federal Awards

AGENCY: Gulf Coast Ecosystem Restoration Council.

ACTION: Final rule.

SUMMARY: The Gulf Coast Ecosystem Restoration Council (Council) publishes this rule to amend the Council's regulation on the Uniform Administrative Requirements, Cost Principles, and Audit Requirements for Federal Awards, to align with the Office of Management and Budget's (OMB) recent amendments to its regulations on Grants and Agreements.

DATES: This rule is effective February 8, 2021.

FOR FURTHER INFORMATION CONTACT: Kristin Smith at 504-444-3558 or Kristin.smith@restorethegulf.gov.

SUPPLEMENTARY INFORMATION: On December 19, 2014, OMB issued an interim final rule that implemented for all Federal award-making agencies the final guidance on Uniform Administrative Requirements, Cost Principles, and Audit Requirements for Federal Awards (Uniform Guidance). In that interim final rule, Federal awarding agencies, including the Council, joined together to implement the Uniform Guidance in their respective chapters of title 2 of the CFR, and, where approved by the Office of OMB, implemented any exceptions to the Uniform Guidance by including the relevant language in their regulations. The intent of this effort was to simultaneously reduce administrative burden and the risk of waste, fraud, and abuse while delivering better performance. Implementation of the Uniform Guidance became effective on December 26, 2014 (79 FR 75867, December 19, 2014) and must be reviewed every five years in accordance with 2 CFR 200.109.

OMB has revised sections of OMB Guidance for Grants and Agreements, effective November 12, 2020, except for the amendments to §§ 200.216 and 200.340, which were effective on August 13, 2020. (85 FR 49506, August 13, 2020). The Council publishes this final rule to adopt those revisions, without exception.

Classification

Paperwork Reduction Act

This rule contains no collections of information subject to the requirements of the Paperwork Reduction Act (44 U.S.C. 3506). Notwithstanding any other provision of law, no person is required to respond to, nor shall any person be subject to a penalty for failure to comply with, a collection of information subject to the Paperwork Reduction Act unless that collection displays a currently valid OMB Control Number.

Regulatory Flexibility Act

Because notice and opportunity for comment are not required pursuant to 5 U.S.C. 553 or any other law, the analytical requirements of the Regulatory Flexibility Act (5 U.S.C. 601 et seq.) are inapplicable. Therefore, a regulatory flexibility analysis is not required and has not been prepared.

List of Subjects in 2 CFR Part 5900

Accounting, Administrative practice and procedure, Grant programs, Grants administration.

For the reasons set forth above, Part 5900 of Title 2, Chapter LIX of the Code of Federal Regulations is amended to read as follows:

PART 5900—UNIFORM ADMINISTRATIVE REQUIREMENTS, COST PRINCIPLES, AND AUDIT REQUIREMENTS FOR FEDERAL AWARDS

1. The authority citation for 2 CFR part 5900 is revised to read as follows:

Authority: 5 U.S.C. 301; 33 U.S.C. 1321(t)(2); 2 CFR part 200.

2. Revise § 5900.101 to read as follows:

§ 5900.101 Adoption of 2 CFR Part 200

Under the above authority, the Gulf Coast Ecosystem Restoration Council (Council) adopts the Office of Management and Budget (OMB) Guidance in 2 CFR part 200, as revised in part effective August 13, 2020 and in part effective November 12, 2020. This gives regulatory effect to the revised OMB guidance and supplements the guidance as needed for the Council.

Keala Hughes,
Director of External Affairs & Tribal Relations, Gulf Coast Ecosystem Restoration Council.

[FR Doc. 2020-27613 Filed 1-7-21; 8:45 am]

BILLING CODE 6560-58-P